NATIONAL SCIENCE FOUNDATION

Advisory Committee for Social, Behavioral and Economic Sciences; Notice of Meeting

In accordance with the Federal Advisory Committee Act (Pub. L. 92-463, as amended), the National Science Foundation (NSF) announces the following meeting:

Name and Committee Code: Advisory Committee for Social, Behavioral and Economic Sciences (#1171).

Date and Time: December 12, 2019; 9:00 a.m. to 5:00 p.m.; December 13, 2019; 9:00 a.m. to 12:30 p.m.

Place: National Science Foundation, 2415 Eisenhower Avenue, Room E2020, Alexandria, VA 22314.

Type of Meeting: Open.

Contact Person: Dr. Deborah Olster, Office of the Assistant Director, Directorate for Social, Behavioral and Economic Sciences, National Science Foundation, 2415 Eisenhower Avenue, Alexandria, VA 22314; Telephone: 703- 292-8700.

Summary of Minutes: Posted on SBE advisory committee website at: https://www.nsf.gov/sbe/advisory.jsp.

Purpose of Meeting: To provide advice and recommendations to the National Science Foundation on major goals and policies pertaining to Social, Behavioral and Economic Sciences Directorate (SBE) programs and activities.

Agenda

• Welcome, Introductions, and Preview of Agenda

• Directorate for Social, Behavioral, and Economic Sciences (SBE) Update

• Division of Behavioral and Cognitive Sciences Committee of Visitors Report

• National Academies of Science, Engineering, and Medicine report, Reproducibility and Replicability in Science

• NSF Distinguished Lecture in the Social, Behavioral, and Economic Sciences: Dr. Jennifer Lerner, Harvard University

• Opportunities for collaboration between SBE and the Directorate for Computer and Information Science and Engineering

• SBE Sciences and National Security

• New SBE Advisory Committee Member Research Presentations

• SBE Division Leadership—Visions

• NSF Big Ideas Update

• Committee on Equal Opportunities in Science and Engineering Update

• Advisory Committee for Environmental Research and Education Update

• Wrap-up, Assignments, and Closing Remarks

Dated: November 18, 2019.
Crystal Robinson,
Committee Management Officer.

[FR Doc. 2019-25275 Filed 11-20-19; 8:45 am]

BILLING CODE 7555-01-P